DEPARTMENT OF JUSTICE

Drug Enforcement Administration

[Docket No. DEA-966]

Bulk Manufacturer of Controlled Substances Application: S&B Pharma LLC

AGENCY: Drug Enforcement Administration, Justice.

ACTION: Notice of application.

SUMMARY: S&B Pharma LLC has applied to be registered as a bulk manufacturer of basic class(es) of controlled substance(s). Refer to Supplemental Information listed below for further drug information.

DATES: Registered bulk manufacturers of the affected basic class(es), and applicants therefore, may file written comments on or objections to the issuance of the proposed registration on or before April 26, 2022. Such persons may also file a written request for a hearing on the application on or before April 26, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 24, 2021, S&B Pharma LLC, 405 South Motor Avenue, Azusa, California 91702, applied to be registered as a bulk manufacturer of the following basic class(es) of controlled substance(s):

Controlled substance | Drug code | Schedule
Gamma Hydroxybutyric Acid | 2010 | I
Marihuana | 7360 | I
Tetrahydrocannabinols | 7370 | I
Amphetamine | 1100 | II
Methamphetamine | 1105 | II
Lisdexamfetamine | 1205 | II
Methylphenidate | 1724 | II
Pentobarbital | 2270 | II
4-Anilino-N-Phenethyl-4-Piperidine (ANPP) | 8333 | II
Tapentadol | 9780 | II
Fentanyl | 9801 | II

The company plans to bulk manufacture the listed controlled substances for the internal use intermediates for formulation and analytical development purposes or for sale to its customers. In reference to dug codes 7360 (Marihuana), and 7370 (Tetrahydrocannabinols), the company plans to bulk manufacture these drugs as synthetic. No other activities for these drug codes are authorized for this registration.

Matthew J. Strait,
Deputy Assistant Administrator.

[FR Doc. 2022-04062 Filed 2-24-22; 8:45 am]

BILLING CODE 4410-09-P